DEPARTMENT OF TRANSPORTATION

Office of the Secretary

Aviation Proceedings, Agreements Filed the Week Ending July 11, 2003

The following Agreements were filed with the Department of Transportation under the provisions of 49 U.S.C. 412 and 414. Answers may be filed within 21 days after the filing of the application.

Docket Number: OST-2003-15586.

Date Filed: July 8, 2003.

Parties: Members of the International Air Transport Association.

Subject: Mail Vote, 311 PTC123 0244 dated 8 July 2003, South Atlantic Special Passenger Amending Resolution from Brazil r1-r5, Intended effective date: 1 August 2003.

Docket Number: OST-2003-15587.

Date Filed: July 8, 2003.

Parties: Members of the International Air Transport Association.

Subject: PTC2 EUR-ME 0167 dated 8 July 2003, TC2 Europe-Middle East Expedited Resolutions r1-r12, Intended effective date: 15 August 2003.

Docket Number: OST-2003-15657.

Date Filed: July 11, 2003.

Parties: Members of the International Air Transport Association.

Subject: PTC COMP 1071 dated 11 July 2003, Mail Vote 312—Resolution 024a, TC2/12/23/123 Establishing Passenger Fares and Related Charges—Iraq, CTC COMP 0448 dated 11 July 2003, Mail Vote 313—Resolution 033a, TC2/12/23/123 Establishing Cargo Rates, Charges and Amounts—Iraq, Intended effective date: 1 August 2003.

Docket Number: OST-2003-15658.

Date Filed: July 11, 2003.

Parties: Members of the International Air Transport Association.

Subject: Mail Vote 314—Resolution 002c

PTC2 ME 0126 dated 15 July 2003

TC2 Within Middle East

Special Amending Resolution r1-r8,

Intended effective date: 15 August 2003.

Andrea M. Jenkins,
Program Manager, Docket Operations, Federal Register Liaison.

[FR Doc. 03-18917 Filed 7-24-03; 8:45 am]

BILLING CODE 4910-62-P